DELAWARE RIVER BASIN COMMISSION

Notice of Commission Meeting and Public Hearing

Notice is hereby given that the Delaware River Basin Commission will hold an informal conference followed by a public hearing on Tuesday, January 9, 2001. The hearing will be part of the Commission's regular business meeting. Both the conference session and business meeting are open to the public and will be held at the West Chester University Sykes Student Union, located on Rosedale Avenue in West Chester, Pennsylvania.

The conference among the Commissioners and staff will begin at 10:00 a.m. Topics of discussion will include a progress report on the Commission's Comprehensive Plan; a proposal to institute project review upon retirement of entitlements; and Delaware Estuary Program (DELEP) organizational issues. Summaries of the following meetings will be presented: The Flood Advisory Committee meeting of December 5; the Monitoring Advisory Committee meeting of December 12; the Toxics Advisory Committee meeting of December 13; the Water Quality Advisory Committee meeting of December 14; and the Water Management Advisory Committee meeting of January 4.

The subjects of the public hearing to be held during the 1:00 p.m. business meeting include, in addition to the dockets listed below, resolutions to: (1) Amend the Comprehensive Plan with respect to recreation areas in the state of New York; (2) amend the Comprehensive Plan with respect to national recreation areas; and (3) amend the Comprehensive Plan and Water Code with respect to water usage reporting requirements. A public notice on the proposal to amend water usage reporting requirements was published on the Commission's web site, www.drbc.net, on October 23, 2000 and will remain there through January 9, 2001. Notices also appeared in the Delaware Register (December 1, 2000), the New Jersey Register (December 4, 2000), the New York State Register (November 22, 2000), the Pennsylvania Register (November 11, 2000), and the Federal Register (November 29, 2000). Submission of written comments on the proposed amendment was requested by December 20, 2000.

The dockets scheduled for public hearing will be as follows:

1. Borough of Ambler D-85-26 CP RENEWAL 2. A renewal of a ground water withdrawal project to supply up to 116 million gallons (mg)/30 days of water to the applicant's public water distribution system from Wells Nos. 1 through 14 and Spring Well, all in the Stockton Formation. The total withdrawal from all wells of 116 mg/30 days is a decrease in allocation (from 134.4 mg/30 days) to accurately reflect the applicant's system capacity and demand. The project is located in Ambler Borough and portions of Lower Gwynedd, Upper Dublin, Whitemarsh and Whitpain Townships, all in Montgomery County in the Southeastern Pennsylvania Ground Water Protected Area.

2. Limekiln Golf Course D-2000-17. A ground water withdrawal project to supply a combined total of 5.4 mg/30 days of supplemental water to the applicant's holding pond for irrigation of the applicant's golf course from existing Wells Nos. 1 through 3 and new Well No. 4, located in the mixed zone of the Lockatong and Upper Stockton Formations. The total withdrawal from all sources is limited to 5.4 mg/30 days. The project is located in Horsham Township, Montgomery County in the Southeastern Pennsylvania Ground Water Protected Area.

3. Lehigh Valley Water Company, LLC D-2000-34. A ground water withdrawal project to supply a combined total of 8.6 mg/30 days of water to the applicant's Arcadia West Industrial Park from new Wells Nos. PW-1, PW-2 and PW-3, all in the Martinsburg Formation. The project is located in Weisenberg Township, Lehigh County, Pennsylvania.

4. Upper Saucon Township D-2000-51 CP. A ground water withdrawal project to supply up to 30 mg/30 days of water to the applicant's public water distribution system from the new Colonial Crest Well and the existing abandoned New Jersey Zinc Mine Company mine shaft, without an increase in the existing allocation of 30 mg/30 days from all sources. The abandoned mine shaft is located in limestone and dolomite of the Beekmantown Formation. The Colonial Crest Well is completed in the Quartz Fanglomerate member of the Brunswick Formation. The project is located in Upper Saucon Township, Lehigh County, Pennsylvania.

5. West Bradford Township D-2000-54 CP. An application to construct a 0.135 mgd secondary lagoon sewage treatment plant (STP) to replace failing on-lot septic systems in Marshallton and to serve the proposed Tattersall community, both located in West Bradford Township, Chester County, Pennsylvania. The proposed STP is located off State Route 162 approximately one-half mile south of Strasburg Road and treated effluent will be utilized for farmland spray irrigation in West Bradford Township along its border with Newlin Township.

6. Hemlock Farms Community Association D-2000-60 CP. A ground water withdrawal project to supply up to 30 mg/30 days of water to the applicant's public water distribution system from new Well No. 4, and existing Wells Nos. 1, 10, 49 and 80, and to limit the withdrawal from all wells to 30 mg/30 days. New Well No. 4 is completed in the Catskill Formation. The project is located in the Special Protection Waters of the Bushkill and Shohola Creek watersheds in Blooming Grove Township, Pike County, Pennsylvania.

7. M.C. Resource Development Company D-2000-65. A ground water withdrawal project to supply a combined total of 6.9 mg/30 days of water to the applicant's bottled water facility from new Wells Nos.P-1 and P-2 in the Bloomsburg Formation. The project is located in the Indian Run watershed, a tributary to the Little Schuylkill River, in East Brunswick Township, Schuylkill County, Pennsylvania.

8. South Coventry Township D-2000-67 CP. A project to construct a 55,000 gallons per day (gpd) STP and effluent drip irrigation system to serve the proposed Ridglea Farm subdivision and the existing Pughtown Village residential area, all within South Coventry Township, Chester County, Pennsylvania. The proposed advanced secondary treatment plant will be located just east of State Route 100 approximately one-quarter mile north of Pughtown Road, and the proposed 12.5 acre drip irrigation system will be located approximately one-half mile northeast of the STP. No alternate surface water discharge is proposed as the applicant will store treated effluent in a 725,000 gallon lagoon for later disposal during storm and freezing conditions.

In addition to the public hearing, the Commission will address the following at its 1:00 p.m. business meeting: minutes of the November 15, 2000 business meeting; announcements; report on hydrologic conditions in the basin; reports by the Executive Director and General Counsel; resolution to adopt the Commission's FY 2002 budgets (on which a public hearing was held on November 15, 2000); and public dialogue.

Documents relating to the dockets and other items may be examined at the Commission's offices. Preliminary dockets are available in single copies upon request. Please contact Thomas L. Brand at (609) 883-9500 ext. 221 with any docket-related questions. Persons wishing to testify at this hearing are requested to register in advance with the Secretary at (609) 883-9500 ext. 203.

Individuals in need of an accommodation as provided for in the Americans With Disabilities Act who wish to attend the hearing should contact the Commission Secretary, Pamela M. Bush, directly at (609) 883-9500 ext. 203 or through the New Jersey Relay Service at 1-800-852-7899 (TTY) to discuss how the Commission may accommodate your needs. Driving directions to the meeting location are posted on the Commission's web site, at www.drbc.net.

Dated: December 18, 2000.
Pamela M. Bush,
Commission Secretary.

[FR Doc. 00-32811 Filed 12-22-00; 8:45 am]

BILLING CODE 6360-01-P